DEPARTMENT OF HOMELAND SECURITY

Coast Guard

[Docket No. USCG-2011-0979]

Commercial Fishing Safety Advisory Committee; Meeting

AGENCY: Coast Guard, DHS.

ACTION: Notice of Federal Advisory Committee meeting.

SUMMARY: The Commercial Fishing Safety Advisory Committee (CFSAC) will meet in Seattle, Washington to discuss various issues relating to safety in the commercial fishing industry. This meeting will be open to the public.

DATES: The Committee will meet on November 14, 2011, from 9 a.m. to 5 p.m., and on November 15-16, 2011, from 8:30 a.m. to 5 p.m. This meeting may close early if all business is finished. Written material and requests to make oral presentations should reach the Coast Guard on or before November 4, 2011.

ADDRESSES: The Committee will meet at the Henry M. Jackson Federal Building (Room 440), 915 2nd Ave, Seattle, Washington 98174.

For information on facilities or services for individuals with disabilities or to request special assistance at the meeting, contact the person listed in the FOR FURTHER INFORMATION CONTACT section, as soon as possible.

To facilitate public participation, we are inviting public comment on the issues to be considered by the committee as listed in the “Agenda” section below. You may submit written comments no later than November 4, 2011, and they must be identified by docket number [USCG-2011-0979] using one of the following methods:

• Federal eRulemaking Portal: http://www.regulations.gov. Follow the instructions for submitting comments.

• Mail: Docket Management Facility (M-30), U.S. Department of Transportation, West Building Ground Floor, Room W12-140, 1200 New Jersey Avenue, SE., Washington, DC 20590-0001. We encourage use of electronic submissions because security screening may delay delivery of mail.

• Fax: (202) 493-2251

• Hand Delivery: Same as mail address above, between 9 a.m. and 5 p.m., Monday through Friday, except Federal Holidays. The telephone number is 202-366-9329.

Instructions: All submissions received must include the words “Department of Homeland Security” and docket number [USCG-2011-0979]. All submissions received will be posted without alteration at http://www.regulations.gov, including any personal information provided. Anyone can search the electronic form of comments received into any of our dockets by the name of the individual submitting the comment (or signing the comment, if submitted on behalf of an association, business, labor union, etc.) You may review a Privacy Act notice regarding our public dockets in the January 17, 2008 issue of the Federal Register (73 FR 3316).

Docket: Any background information or presentations available prior to the meeting will be published in the docket. For access to the docket to read background documents or submissions received by the CFSAC, go to http://www.regulations.gov., insert “USCG-2011-0979” in the “Keyword” box, and then click “Search”.

Public comments may be taken by the DFO throughout the meetings. Additionally, a public presentation/comment period will be held during the meetings on November 14-16, 2011, from 4 p.m. to 5 p.m. Speakers are requested to limit their comments to 5 minutes. Please note that the public comment period will end following the last call for comments. Contact the individual listed below to register as a speaker.

FOR FURTHER INFORMATION CONTACT: Mr. Jack Kemerer, Alternate Designated Federal Official (ADFO) of CFSAC, Commandant (CG-5433), U.S. Coast Guard Headquarters, 2100 Second Street, SW., Stop 7581, Washington, DC 20593-7581; telephone 202-372-1249, fax 202-372-1917, email: jack.a.kemerer@uscg.mil. If you have any questions on viewing or submitting material to the docket, call Renee V. Wright, Program Manager, Docket Operations, telephone 202-366-9826.

SUPPLEMENTARY INFORMATION: Notice of this meeting is given under the Federal Advisory Committee Act, 5 U.S.C. App. (Pub. L. 92-463). The CFSAC is authorized by 46 U.S.C. 4508 and the Committee's purpose is to provide advice and recommendations to the U.S. Coast Guard and the Department of Homeland Security on matters relating to the safety of commercial fishing industry vessels.

Agenda

The CFSAC will meet to review, discuss and formulate recommendations on the following topics contained in this agenda:

Day 1 of the meeting and, if necessary, the morning of Day 2 will include the following reports and presentations:

(1) Review of Commercial Fishing Vessel Safety Requirements amended, added or deleted by the Coast Guard Authorization Act of 2010.

(2) Status of Commercial Fishing Vessel Safety Rulemaking.

(3) Commercial Fishing Vessel Safety District Coordinators reports on activities and initiatives.

(4) Industry Representatives updates including safety and survival equipment, and class rules for fishing vessels.

(5) Presentation on fatality rates by regions and fisheries and update on safety related projects such as wearing of Personal Floatation Device (PFD) when working on deck by the National Institute for Occupational Safety and Health.

(6) Presentation on safety standards by the National Oceanic and Atmospheric Administration, National Marine Fisheries Service.

Days 2 and 3 of the meeting will be primarily dedicated to subcommittee sessions and reports on these topics: USCG communications and outreach to the fishing industry; risk management for vessel owners, operators, and crews; operator competency training requirements; vessel construction standards and alternate safety compliance program requirements; safety and survival equipment requirements, inspections, and testing; mandatory safety examinations and certificates of compliance; and safety program strategies, future plans, and long range goals.

Dated: October 14, 2011.
Paul F. Thomas,
Captain, U.S. Coast Guard, Acting Director, Prevention Policy.

[FR Doc. 2011-27127 Filed 10-19-11; 8:45 am]

BILLING CODE 9110-04-P